DEPARTMENT OF HEALTH AND HUMAN SERVICES

Request for Information: STI National Strategic Plan 2021-2025 Available for Public Comment

AGENCY: Office of the Secretary, Department of Health and Human Services.

ACTION: Notice.

SUMMARY: The Department of Health and Human Services (HHS) Office of Infectious Disease and HIV/AIDS Policy (OIDP) in the Office of the Assistant Secretary for Health (OASH) announces the draft Sexually Transmitted Infections National Strategic Plan 2021-2025 (STI Plan) available for public comment. The draft STI Plan may be reviewed at www.hhs.gov/STI.

DATES: All comments must be received by 5:00 p.m. ET on October 1, 2020 to ensure consideration.

ADDRESSES: All comments must be submitted electronically to STDPlan@hhs.gov.

FOR FURTHER INFORMATION CONTACT: Carol Jimenez, OIDP, Carol.Jimenez@hhs.gov, 202-401-5131.

SUPPLEMENTARY INFORMATION: Persistent rises in the rates of sexually transmitted infections (STIs) in the United States constitute an epidemic and public health crisis with profound implications for all Americans. In recent decades, rates of chlamydia, gonorrhea, syphilis, congenital syphilis, and human papillomavirus have increased significantly. The rate of chlamydia, the most prevalent STI, increased by greater than 200% from 2011 to 2018.¹ In just over a decade, the rate of gonorrhea rose by greater than 80% from a historic low. The rates of primary and secondary syphilis and of congenital syphilis increased every year since 2001 and 2012, respectively.² Human papillomavirus (HPV), the most common STI, accounts for 14 million new STI infections each year.³ Left untreated, STIs can lead to significant health consequences.

To spur action to reduce STI rates and their adverse public health impact, OASH through OIDP, in collaboration with federal partners throughout HHS and other departments, led and coordinated development of the inaugural STI Plan. Opportunities for public input were provided, and public comments received were reviewed, and analyzed and helped inform the components of the STI Plan.

The STI Plan is intended to serve as a roadmap for all stakeholders at all levels to guide development of policies, initiatives, and actions for STI prevention and control. The STI Plan focuses on four of the STIs that have the greatest impact on the health of the nation: chlamydia, gonorrhea, syphilis, and HPV. However, most of its components are also applicable to other prevalent STIs.

The STI Plan presents a strategic framework for integrating and leveraging synergistic policies, programs, and resources. It sets forth a vision and goals for the nation, with objectives and strategies for each goal. The objectives and strategies offered in this plan are interrelated and may be used to make progress toward more than one goal. The STI Plan identifies priority populations (i.e., those populations disproportionately impacted by STIs based on national data) to guide national efforts to realize the highest impact on reducing STIs. The STI Plan also includes indicators to measure progress and quantitative targets for each indicator. Although it is a 5-year plan, it sets 10-year quantitative targets for each indicator—reflecting the reality that it will take more than 5 years to reverse, not just slow, the upward trajectory of rising STI rates, and to eliminate the epidemic. The order in which the goals, objectives, strategies, and indicators are presented is not associated with any prioritization.

The following are the STI Plan's vision and goals. Vision: The United States will be a place where sexually transmitted infections are prevented and where every person has high-quality STI prevention, care, and treatment while living free from stigma and discrimination. This vision includes all people, regardless of age, sex, gender identity, sexual orientation, race, ethnicity, disability, geographic location, or socioeconomic circumstance. Goals:

1. Prevent new STIs

2. Improve the health of people by reducing adverse outcomes of STIs

3. Accelerate progress in STI research, technology, and innovation

4. Reduce STI-related health disparities and health inequities

5. Achieve integrated, coordinated efforts that address the STI epidemic

A roadmap for stakeholders at all levels and sectors, the STI Plan envisions a whole-of-nation response to preventing and controlling STIs in the United States. The STI Plan assumes the active participation of state, local, and tribal health departments and organizations, health plans and health care providers, schools and other academic institutions, community- and faith-based organizations, scientists, researchers, and the public in this effort. The priority populations, indicators, and quantitative targets, especially the methods used to determine them, are intended to help focus efforts and limited resources to realize the most impact. Stakeholders are encouraged to focus on activities that resonate the most with the needs of the populations they serve and services they provide, and, using the STI Plan as a framework, develop their own plans to reverse the rise of STIs and improve the health of their communities, states, tribal nations, and the nation.

Information Needs

The draft STI Plan may be reviewed at: www.hhs.gov/STI.

OIDP seeks to obtain feedback from external stakeholders on the following:

1. Do the draft plan's goals, objectives, and strategies appropriately address the STI epidemic?

2. Are there any critical gaps in the STI Plan's goals, objectives, and strategies? If so, please specify the gaps.

3. Do any of the STI Plan's goals, objectives and strategies cause concern? If so, please specify the goal, objective or strategy, and describe the concern regarding it.

Please be succinct and limit your comments to a maximum of seven pages.

Authority: 77 FR 15761 (March 16, 2012).

Dated: September 15, 2020.
B. Kaye Hayes,
Acting Director, Office of Infectious Disease and HIV/AIDS Policy.

Footnotes

1. Centers for Disease Control and Prevention. Sexually Transmitted Disease Surveillance 2018. U.S. Department of Health and Human Services; 2019. Accessed June 22, 2020. https://www.cdc.gov/std/stats18/STDSurveillance2018-full-report.pdf

2. Centers for Disease Control and Prevention. Sexually Transmitted Disease Surveillance 2018. U.S. Department of Health and Human Services; 2019. Accessed June 22, 2020. https://www.cdc.gov/std/stats18/STDSurveillance2018-full-report.pdf

3. About HPV. Centers for Disease Control and Prevention. Accessed July 14, 2020. https://www.cdc.gov/hpv/parents/about-hpv.html

[FR Doc. 2020-20677 Filed 9-18-20; 8:45 am]

BILLING CODE 4150-43-P